DEPARTMENT OF ENERGY

Federal Energy Regulatory Commission

[Docket No. RM21-17-000]

Building for the Future Through Electric Regional Transmission Planning and Cost Allocation and Generator Interconnection; Notice Inviting Post-Technical Conference Comments

On November 15, 2021, the Federal Energy Regulatory Commission (Commission) staff convened a technical conference to discuss potential reforms related to regional transmission planning processes.

All interested persons are invited to file post-technical conference comments to address the issues raised during that event on or before November 30, 2021. Commenters are encouraged to include such comments with any reply comments that they are filing to the Advance Notice of Proposed Rulemaking (ANOPR) in this docket. To the extent that commenters combine their technical conference and reply comments into one filing, commenters should clearly identify which comments are being raised in response to the technical conference.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2020).

For more information about this Notice, please contact:

David Tobenkin (Technical Information), Office of Energy Policy and Innovation, (202) 502-6445, David.Tobenkin@ferc.gov

Lina Naik (Legal Information), Office of the General Counsel, (202) 502-8882, Lina.Naik@ferc.gov

Sarah McKinley (Logistical Information), Office of External Affairs, (202) 502-8004, Sarah.Mckinley@ferc.gov.

Dated: November 17, 2021.
Kimberly D. Bose,
Secretary.

[FR Doc. 2021-25619 Filed 11-23-21; 8:45 am]

BILLING CODE 6717-01-P